DEPARTMENT OF AGRICULTURE

Rural Business-Cooperative Service

[Docket No. RBS-20-Business-0004]

Notice of Request for Extension of a Currently Approved Information Collection

AGENCY: Rural Business-Cooperative Service, USDA.

ACTION: Notice; comment requested.

SUMMARY: In accordance with the Paperwork Reduction Act of 1995, the Rural Business-Cooperative Service (RBCS) invites comments on this information collection for which approval from the Office of Management and Budget (OMB) will be requested. The intention is to request a revision for a currently approved information collection in support of the program for Voluntary Labeling Program for Biobased Products.

DATES: Comments on this notice must be received by April 24, 2020 to be assured of consideration.

FOR FURTHER INFORMATION CONTACT: Robin M. Jones, Rural Development Innovation Center—Regulations Management Division, USDA, 1400 Independence Avenue SW, STOP 1522, Room 2445, South Building, Washington, DC 20250-1522. Telephone: (202) 772-1172. Email: robin.m.jones@usda.gov.

SUPPLEMENTARY INFORMATION: The Office of Management and Budget's (OMB) regulation (5 CFR 1320) implementing provisions of the Paperwork Reduction Act of 1995 (Pub. L. 104-13) requires that interested members of the public and affected agencies have an opportunity to comment on information collection and recordkeeping activities (see 5 CFR 1320.8(d)). This notice identifies an information collection that RBCS is submitting to OMB for extension.

Comments are invited on: (a) Whether the proposed collection of information is necessary for the proper performance of the functions of the Agency, including whether the information will have practical utility; (b) the accuracy of the Agency's estimate of the burden of the proposed collection of information including the validity of the methodology and assumptions used; (c) ways to enhance the quality, utility and clarity of the information to be collected; and (d) ways to minimize the burden of the collection of information on those who are to respond, including through the use of appropriate automated, electronic, mechanical, or other technological collection techniques or other forms of information technology.

Comments may be sent by the Federal eRulemaking Portal: Go to http://www.regulations.gov and, in the lower “Search Regulations and Federal Actions” box, select “Rural Business-Cooperative Service” from the agency drop-down menu, then click on “Submit.” In the Docket ID column, select “RBCS-20-XXX-0000” to submit or view public comments and to view supporting and related materials available electronically. Information on using Regulations.gov, including instructions for accessing documents, submitting comments, and viewing the docket after the close of the comment period, is available through the site's “User Tips” link.

Title: Voluntary Labeling Program for Biobased Products.

OMB Number: 0570-0071.

Expiration Date of Approval: September 30, 2020.

Type of Request: Extension of a currently approved information collection.

Abstract: Section 9002(h) of the Farm Security and Rural Investment Act (FSRIA) of 2002, as amended by the Food, Conservation, and Energy Act (FCEA) of 2008, the Agricultural Act of 2014, and the Agricultural Improvement Act of 2018, requires the Secretary of Agriculture to implement a voluntary labeling program that would enable qualifying biobased products to be certified with a “USDA Certified Biobased Product” label. USDA subsequently published the terms and conditions for voluntary use of the label. These terms and conditions can be found in the Code of Federal Regulations (CFR) at 7 CFR part 3202. To implement the statutory requirements of FSRIA, USDA will gather relevant product information on biobased products for which manufacturers and vendors seek certification to use the label. Participation in the voluntary labeling program is entirely voluntary. The information collected will enable USDA to evaluate the qualifications of biobased products to carry the USDA Certified Biobased Product label and to ensure that the label is used properly and in accordance with the requirements specified in 7 CFR part 3202. To the extent feasible, the information sought by USDA can be transmitted electronically using the website http://www.biopreferred.gov. If electronic transmission of information is not practical for some applicants, USDA will provide technical assistance to support the transmission of information to USDA.

Estimate of Burden: Public reporting burden for this collection of information is estimated to average 3 hours per response.

Respondents: Manufacturers and vendors who wish to apply the “USDA Certified Biobased Product” label to their biobased products. Participation is voluntary.

Estimated Number of Respondents: 200.

Estimated Number of Responses per Respondent: 3.

Estimated Number of Responses: 600.

Estimated Total Annual Burden on Respondents: 1,800 hours.

Copies of this information collection can be obtained from Robin M. Jones, Innovation Center—Regulations Management Division, at (202) 772-1172, Email: robin.m.jones@wdc.usda.gov.

All responses to this notice will be summarized and included in the request for OMB approval. All comments will also become a matter of public record.

Bette B. Brand,
Administrator, Rural Business-Cooperative Service.

[FR Doc. 2020-03589 Filed 2-21-20; 8:45 am]

BILLING CODE 3410-XY-P